DEPARTMENT OF HOMELAND SECURITY

Coast Guard

33 CFR Part 117

[Docket No. USCG-2009-0051]

RIN 1625-AA09

Drawbridge Operation Regulation; Atlantic Intracoastal Waterway, (AIWW) Scotts Hill, NC

AGENCY: Coast Guard, DHS.

ACTION: Notice of proposed rulemaking; withdrawal.

SUMMARY: The Coast Guard is withdrawing its notice of proposed rulemaking concerning the proposed change to the regulations that governed the operation of the Figure Eight Swing Bridge, at AIWW mile 278.1, at Scotts Hill, NC. The requested change would have allowed the drawbridge to open on signal every hour on the half hour for the passage of pleasure vessels.

DATES: The notice of proposed rulemaking is withdrawn on June 28, 2010.

ADDRESSES: The docket for this withdrawn rulemaking is available for inspection or copying at the Docket Management Facility (M-30), U.S. Department of Transportation, West Building Ground Floor, Room W12-140, 1200 New Jersey Avenue, SE., Washington, DC 20590, between 9 a.m. and 5 p.m., Monday through Friday, except Federal holidays. You may also find this docket on the Internet by going to http://www.regulations.gov, inserting USCG-2009-0051 in the “Keyword” box and then clicking “Search.”

FOR FURTHER INFORMATION CONTACT: If you have questions about this notice, call or e-mail Waverly W. Gregory, Jr., Fifth Coast Guard District; telephone (757) 398-6222, e-mail Waverly.W.Gregory@uscg.mil. If you have questions on viewing material in the docket call Renee V. Wright, Program Manager, Docket Operations, telephone 202-366-9826.

SUPPLEMENTARY INFORMATION:

Background

On February 20, 2009, we published a notice of proposed rulemaking (NPRM) entitled “Drawbridge Operation Regulations; Atlantic Intracoastal Waterway, (AIWW) Scotts Hill, NC” in the Federal Register (74 FR 7844-7847). The rulemaking would have allowed the drawbridge to open on signal every hour on the half hour for the passage of pleasure vessels. Our investigation along with comments received revealed that the proposed change would significantly increase delays to recreational boaters and would provide an unsafe environment for slow moving vessel traffic.

Withdrawal

The Figure Eight Homeowner Association Inc. (FEHAI), who owns and operates the Figure Eight Swing Bridge, had requested a change to the existing regulations in an effort to improve the schedule for both roadway and waterway users. The swing bridge provides the only route on and off Figure Eight Island. The proposal would not have changed the requirement for the bridge to open on signal at any time for commercial and government vessels. FEHAI believed that the proposal would facilitate pleasure craft in navigating the AIWW, and also help ease vehicular traffic congestion.

The Coast Guard received several comments opposing changes to the proposed rulemaking. We conducted a lengthy and thorough investigation that included a site visit.

Our investigation along with the majority of the comments revealed that the request to change the regulations for pleasure craft from half-hour openings to hourly openings would not affect power boats along the AIWW, but would significantly affect sailboats. Increasing travel time between drawbridge openings will increase the number of vessels waiting for an opening in a narrow and restricted channel, making safe navigation more difficult. In addition, no data was submitted to the docket to support concerns that vehicle traffic across the bridge had increased or was unreasonably impeded by the current operating schedule of the bridge. The proposed amendment to the operating schedule is withdrawn because this change would not improve drawbridge operations.

Authority

This action is taken under the authority of 33 U.S.C. 499; 33 CFR 1.05-1; Department of Homeland Security Delegation No. 0170.1.

Dated: June 9, 2010.
Wayne E. Justice,
Rear Admiral, U.S. Coast Guard Commander, Fifth Coast Guard District.

[FR Doc. 2010-15560 Filed 6-25-10; 8:45 am]

BILLING CODE 9110-04-P